DEPARTMENT OF THE TREASURY

Submission for OMB Review; Comment Request

May 22, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 2, 2003, to be assured of consideration.

Internal Revenue Service (IRS)

OMB Number: 1545-1800.

Form Number: IRS Form 8886.

Type of Review: Extension.

Title: Reportable Transaction Disclosure Statement.

Description: Regulation section 1.6011-4 requires certain taxpayers to disclose reportable transactions in which they directly or indirectly participated.

Respondents: Business or other for-profit, Individuals or households.

Estimated Number of Respondents/Recordkeepers: 500.

Estimated Burden Hours Per Respondent/Recordkeeper:

Recordkeeping | 3 hr., 6 min.
Learning about the law or the forms | 2 hr., 28 min.
Preparing, copying, assembling, and sending the form to the IRS | 2 hr., 39 min.

Frequency of Response: Annually.

Estimated Total Reporting/Recordkeeping Burden: 4,115 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 03-13676 Filed 5-30-03; 8:45 am]

BILLING CODE 4830-01-P